DEPARTMENT OF TRANSPORTATION

Federal Aviation Administration

Agency Information Collection Activities: Requests for Comments; Clearance of Renewed Approval of Information Collection: AVIATOR Customer Satisfaction Survey

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on March 30, 2018. The collection involves on-line, electronic applicant (customer) answers to standard survey questions. The questions are presented as multiple-choice selections and free-form text areas where applicants can choose their desired answer and, if they wish, add additional comments. The information to be collected will be used to and is necessary to gage the level of user satisfaction with the AVIATOR (Automated Vacancy Information Access Tool for Online Referral) system. Additionally, the surveys are used to obtain benchmarking and feedback to ensure quality.

DATES: Written comments should be submitted by July 25, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Barbara Hall at (940) 594-5913, or by email at: Barbara.L.Hall@faa.gov.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0699.

Title: AVIATOR Customer Satisfaction Survey.

Form Numbers: N/A (electronic).

Type of Review: Renewal of an information collection.

Background: The Federal Register Notice with a 60-day comment period soliciting comments on the following collection of information was published on March 30, 2018 (83 FR 13808). The Government Performance and Results Act of 1993 (GPRA) Section 2(b)(3) requires agencies to “improve Federal program effectiveness and public accountability by promoting a new focus on results, service quality, and customer satisfaction”. In addition, as stated in the White House “Memorandum for Heads of Executive Departments and Agencies” regarding Executive Order No. 12862, “the actions the order prescribes, such as surveying customers, surveying employees, and benchmarking, shall be continuing agency activities”. This collection supports the DOT strategic goal of Organizational Excellence.

In compliance with the Government Paperwork Elimination Act (GPEA), all of our data collection will be 100% electronic using an online form; Applicants will be asked to complete the survey just before they exit the system. The AVIATOR Customer Satisfaction Survey is designed to identify potential problems with FAA's automated staffing solutions as well as to evaluate customer satisfaction with the on-line application process. The information is not gathered by any other collection. It will be difficult, if not impossible, to improve the AVIATOR system's overall performance and customer satisfaction without utilizing the survey as a performance measurement tool.

Respondents: Individuals who use AVIATOR (the FAA's Online Job Application System).

Frequency: On occasion of use of AVIATOR.

Estimated Average Burden per Response: 0.05 hours.

1 Year average: 1 January-31 December 2017.

It is estimated that it will take each of the 75,515 (estimated average) external applicants three minutes to complete one survey for a total of 3,776 hours, if all external applicants choose to complete the AVIATOR Customer Satisfaction Survey. The survey statistics show that an average of 2.2% of the applicants (approximately 1,645) complete a survey resulting in an estimate of 82 total hours.

Applicants are asked `Was this the first time applying for a FAA job?' and will be provided the options of `Yes' or `No'.

Applicants will then see the set of statements below. They will be asked to give their level of agreement with each statement by selecting one of the following six choices: Strongly agree, agree, disagree, strongly disagree, no basis to judge. For each question, the applicant may include additional information in a text area.

Applicant Statements:

(1) Overall, my satisfaction with the FAA AVIATOR portion of this application process was positive.

(2) I was able to navigate around the FAA AVIATOR website with little or no difficulty.

(3) I was able to complete and submit the application with no difficulty (only applicable to applicants whose responses met the eligibility requirements of the position).

(4) The FAA AVIATOR system notified me when there was a problem with my application (applicable to applicants whose responses did NOT meet the eligibility requirements of the position).

(5) I was able to get assistance with the FAA AVIATOR system as needed.

Applicants will also be given the opportunity to add additional comments.

Estimated Total Annual Burden:

Calendar year: 1 January-31 December 2017.

Time burden for respondents: 1,645 responses × 0.05 hours = 82.25 hours.

Issued in Washington, DC, on June 18, 2018.
Barbara Hall,
FAA Information Collection Clearance Officer, IT Enterprises Business Services Division, ASP-110.

[FR Doc. 2018-13492 Filed 6-22-18; 8:45 am]

BILLING CODE 4910-13-P